NUCLEAR REGULATORY COMMISSION

[Docket No. 40-8838; NRC-2019-0027]

U.S. Department of the Army; Jefferson Proving Ground

AGENCY: U.S. Nuclear Regulatory Commission.

ACTION: Draft environmental assessment and draft finding of no significant impact; notice of availability and request for comments.

SUMMARY: The U.S. Nuclear Regulatory Commission (NRC) is issuing for public comment a draft environmental assessment (EA) and draft finding of no significant impact (FONSI) for a proposed amendment of NRC source materials license SUB-1435 for the Jefferson Proving Ground (JPG) from “possession only for decommissioning” to “possession only.” The proposed amendment of the U.S. Department of the Army (Army)'s license would also include an exemption from the NRC's decommissioning timeliness requirements in the regulations. The draft EA, “Draft Environmental Assessment for the Proposed Amendment of Materials License SUB-1435, Jefferson Proving Ground, Southeastern Indiana (Jefferson, Ripley, and Jennings Counties),” documents the NRC staff's environmental review of the license amendment application.

DATES: Submit comments by March 6, 2019. Comments received after this date will be considered if it is practical to do so, but the Commission is able to ensure consideration only for comments received before this date.

ADDRESSES: You may submit comments by any of the following methods:

• Federal Rulemaking Website: Go to http://www.regulations.gov and search for Docket ID NRC-2019-0027. Address questions about Docket IDs in Regulations.gov to Ms. Krupskaya Castellon; telephone: 301-287-9221; email: Krupskaya.Castellon@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Christine Pineda, Office of Nuclear Material Safety and Safeguards, telephone: 301-415-6789; email: Christine.Pineda@nrc.gov; U.S. Nuclear Regulatory Commission, Washington, DC 20555-0001.

SUPPLEMENTARY INFORMATION:

I. Obtaining Information and Submitting Comments

A. Obtaining Information

Please refer to Docket ID NRC-2019-0027 when contacting the NRC about the availability of information for this action. You may obtain publicly-available information related to this action by any of the following methods:

• Federal Rulemaking Website: Go to http://www.regulations.gov and search for Docket ID NRC-2019-0027.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The ADAMS Accession Number for the draft EA is ML19008A310. The document can also be accessed directly at https://www.nrc.gov/docs/ML1900/ML19008A310.pdf.

• NRC's PDR: You may examine and purchase copies of public documents at the NRC's PDR, Room O1-F21, One White Flint North, 11555 Rockville Pike, Rockville, Maryland 20852.

B. Submitting Comments

Please include Docket ID NRC-2019-0027 in your comment submission.

The NRC cautions you not to include identifying or contact information that you do not want to be publicly disclosed in your comment submission. The NRC will post all comment submissions at: http://www.regulations.gov as well as enter the comment submissions into the ADAMS Public Documents collection. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into the ADAMS Public Documents collection.

II. Introduction

Jefferson Proving Ground (JPG) was established in 1940 on 224 square kilometers (km²) [55,265 acres (ac)] in parts of Jefferson, Ripley, and Jennings counties in southeastern Indiana for the production and specification testing of conventional ammunition components. The nearest population center is Madison, Indiana, located approximately 8 kilometers (km) [5 miles (mi)] south of JPG. The site was used by the Army between 1941 and 1994 for munitions testing and, during that time, more than 24 million rounds were fired. Approximately 1.5 million rounds did not detonate upon impact, remaining as unexploded ordnance (UXO) on or beneath the ground surface, along with an additional 3 to 5 million rounds with live detonators, primers, or fuses. As part of its munitions testing program, the Army also test-fired depleted uranium (DU) projectiles into the 8.4-square kilometers (km²) [2,080-acres (ac)] DU Impact Area, which is located within the JPG installation. The DU test firings began on March 18, 1984, and concluded on May 2, 1994. The Army estimates that a high density of high-explosive UXO is present in the DU Impact Area.

The NRC is considering a request for an amendment to the Army's source materials license SUB-1435. The license authorizes possession only by the Army of up to 80,000 kilograms (kg) [176,370 pounds (lb)] of DU metal, alloy, and/or other forms, kept onsite, for the purpose of decommissioning, in the restricted area known as the “Depleted Uranium Impact Area” (DU Impact Area) at the JPG site in southeastern Indiana. The NRC is considering a license amendment that would modify the license from “possession only for decommissioning” to “possession only” and an exemption from the NRC's decommissioning timeliness requirements in Title 10 of the Code of Federal Regulations (10 CFR) Paragraph 40.42(d). The need for this NRC licensing action is to ensure the safe possession of radioactive materials (in the form of DU). The Army needs to delay remediation of the DU Impact Area because remediation is prohibitively expensive and poses a risk of potential explosions due to the presence of a large amount of UXO.

In accordance with NRC's regulations in 10 CFR part 51, “Environmental Protection Regulations for Domestic Licensing and Related Regulatory Functions,” that implement the National Environmental Policy Act of 1969, as amended (NEPA) (42 U.S.C. 4321 et seq.), the NRC staff has prepared a draft EA documenting its environmental review of the license amendment application (ADAMS Accession Numbers: ML17004A186, and ML18156A002). Based on the environmental review, the NRC has made a preliminary determination that the proposed action will not significantly affect the quality of the human environment and that a FONSI is therefore appropriate.

By this notice, the NRC is requesting public comment on the draft FONSI and supporting draft EA.

III. Summary of Draft Environmental Assessment

The draft EA is publicly available in ADAMS using ADAMS Accession Number ML19008A310, or at this link: https://www.nrc.gov/docs/ML1900/ML19008A310.pdf. A summary description of the proposed action and expected environmental impacts is provided below.

Description of the Proposed Action

The proposed action is for the NRC to (1) amend Condition 9 of materials license SUB-1435 to change the authorized use of licensed material from “possession only for decommissioning” to “possession only” for a 20-year term and (2) grant an exemption from the NRC's decommissioning timeliness requirements in 10 CFR 40.42(d) for the term of the license. Under the proposed action and in accordance with current license conditions, the licensed DU material would remain onsite in the restricted area known as the DU Impact Area at JPG. In accordance with a Memorandum of Agreement (MOA) established in 2000 with the U.S. Fish and Wildlife Service and the U.S. Air Force, the Army would continue to maintain institutional control and implement land use restrictions over an area of approximately 206-km² [50,950-ac], which includes the DU Impact Area. Under the terms of the MOA, the Army would remain responsible for remediation of all contamination resulting from Army activities, including the ultimate remediation and control of all DU in the NRC-licensed DU Impact Area.

Environmental Impacts of the Proposed Action

In the draft EA, the NRC staff assessed the potential environmental impacts from the proposed license amendment and exemption to the following resource areas: land use; geology and soils; water resources; ecological resources; climatology, meteorology, and air quality; environmental justice; and public and occupational health. The NRC staff also considered the cumulative impacts from past, present, and reasonably foreseeable future actions when combined with the proposed action.

All potential impacts from the proposed action were determined to be SMALL, as described in the EA. The NRC staff concluded that approval of the proposed action would not result in a significant increase in short-term or long-term radiological risk to public health or the environment. Furthermore, the NRC staff found that there would be no significant negative cumulative impact to any resource area from the proposed action when added to other past, present, and reasonably foreseeable future actions, and that a positive cumulative ecological impact would likely result from the continued management of the Big Oaks National Wildlife Refuge over the proposed action's 20-year duration.

Environmental Impacts of the Alternatives to the Proposed Action

As an alternative to the proposed action, the NRC staff considered denial of the proposed action (i.e., the “no-action” alternative). Under the no-action alternative, the NRC would not grant the license amendment or exemption, and the Army would need to comply with the terms of its current license, which authorizes possession only for decommissioning. Under this alternative, the Army would need to submit a decommissioning plan. The NRC staff concluded that decommissioning activities for a 20-year duration would be restricted due to the presence of UXO and, therefore, the potential impacts of the no-action alternative over a period of 20 years would be SMALL and similar or identical to the impacts of the proposed action.

IV. Draft Finding of No Significant Impact

In accordance with the NEPA and 10 CFR part 51, the NRC staff has conducted an environmental review of a request for an amendment to NRC source materials license SUB-1435 that would change the authorized use of licensed material from “possession only for decommissioning” to “possession only” and for an exemption from the NRC's decommissioning timeliness requirements in 10 CFR 40.42(d). Based on its environmental review of the proposed action, as documented in the draft EA, the NRC staff has preliminarily determined that granting the requested license amendment and exemption would not significantly affect the quality of the human environment. Therefore, the NRC staff has preliminarily determined, pursuant to 10 CFR 51.31, that preparation of an environmental impact statement is not required for the proposed action and a FONSI is appropriate. Pursuant to 10 CFR 51.33(a), the NRC staff is making the draft FONSI and draft EA available for public review and comment.

Dated at Rockville, Maryland, this 30th day of January 2019.
For the U.S. Nuclear Regulatory Commission.
Andrew Pretzello,
Acting Director, Division of Fuel Cycle Safety, Safeguards, and Environmental Review, Office of Nuclear Material Safety and Safeguards.

[FR Doc. 2019-00878 Filed 2-1-19; 8:45 am]

BILLING CODE 7590-01-P